UNITED STATES INSTITUTE OF PEACE

Notice of Intent To Release a Request for Proposal (RFP) for Facility Management Services; for Immediate Release

May 15, 2015.

AGENCY: United States Institute of Peace.

ACTION: Notice of Intent to Release a Request for Proposal (RFP) for Facility Management Services.

SUMMARY: United States Institute of Peace (USIP) is intending to release a Request for Proposal (RFP) on June 30, 2015, for Facility Management Services.

The following information provides background information for the intended RFP as well as high level view of the “Expected Scope of Services.” Also included with this notice is a summary of estimated key dates to enable appropriate planning by the vendor community. The purpose of this notice is to provide early awareness of this impending RFP in our effort to support broad and fair competition for this procurement.

Please note that USIP will not entertain questions regarding this RFP until the REP is released.

Expected Scope of Services: Below are targeted objectives for the facility management services contract for the USIP Campus. The objectives have been organized under the following:

• Facilities Management Services

○ Facility Management

○ External Maintenance

○ Interior Maintenance

○ Event Support

○ Oversee/Monitor subcontractor(s) for the building

• Contractor relations

• Negotiated contracts

• Facility Management direct contracts

Estimated Key Action Dates: The dates in the following table are only estimates and are provided to illustrate the current expectations for timing of actions related to this RFP and the resultant contract for services.

Key actions | Estimated dates
REP issued | June 30, 2015.
Site Visit | July 2015.
Proposals due | August 2015.
Notification for interviews | September 2015.
Interviews—Month | September-October 2015.
Contract Award date | December 2015.

Intent to Respond: Each Contractor who intends to submit a Proposal in response to the RFP shall submit an “Intent to Respond” via email opsfmrfp@usip.org (Subject Line: Facility Management REP Intent to Respond), on or before 5 p.m., May 29, 2015. The Intent to respond shall include the name of the Contractor, the name of a contact person and that person's email address.

Dated: May 15, 2015.
Michael Graham, Sr.,
Vice President, Management & CFO.

[FR Doc. 2015-12291 Filed 5-20-15; 8:45 am]

BILLING CODE 6820-AR-M